DEPARTMENT OF THE TREASURY

Office of Foreign Assets Control

31 CFR Part 598

Publication of Foreign Narcotics Kingpin Sanctions Regulations Web General License 4 and Subsequent Iterations

AGENCY: Office of Foreign Assets Control, Treasury.

ACTION: Publication of Web General Licenses.

SUMMARY: The Department of the Treasury's Office of Foreign Assets Control (OFAC) is publishing eight general licenses (GLs) issued pursuant to the Foreign Narcotics Kingpin Sanctions Regulations: GLs 4, 4A, 4B, 4C, 4D, 4E, 4F, and 4G, each of which was previously made available on OFAC's website.

DATES: GL 4 was issued on May 5, 2016. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On May 5, 2016, OFAC issued GL 4 to authorize certain transactions otherwise prohibited by the Foreign Narcotics Kingpin Sanctions Regulations, 31 CFR part 598. Subsequently, OFAC issued seven further iterations of GL 4: on May 13, 2016, OFAC issued GL 4A, which superseded GL 4; on June 10, 2016, OFAC issued GL 4B, which superseded GL 4A; on July 1, 2016, OFAC issued GL 4C, which superseded GL 4B; on August 19, 2016, OFAC issued GL 4D, which superseded GL 4C; on January 5, 2017, OFAC issued GL 4E, which superseded GL 4D; on March 9, 2017, OFAC issued GL 4F, which superseded GL 4E; and on April 27, 2017, OFAC issued GL 4G, which superseded GL 4F. Each of these GLs is now expired.

Each GL was made available on OFAC's website (www.treas.gov/ofac) when it was issued. The text of these GLs is provided below.

OFFICE OF FOREIGN ASSETS CONTROL

Foreign Narcotics Kingpin Sanctions Regulations 31 CFR Part 598

GENERAL LICENSE NO. 4

Authorizing Certain Transactions Involving Individuals or Entities Located in the Panamanian Mall, Soho Panama, S.A. (a.k.a. Soho Mall Panama)

(a) Except as provided in paragraph (b), the following transactions and other activities otherwise prohibited by the Foreign Narcotics Kingpin Designation Act, 21 U.S.C. 1901-1908, and the Foreign Narcotics Kingpin Sanctions Regulations, 31 CFR part 598, that are for the wind down of operations, contracts, or other agreements involving goods or services are authorized through 12:01 a.m. eastern daylight time, July 6, 2016:

(1) All transactions and other activities involving non-designated individuals or entities located in the designated Panamanian mall, Soho Panama, S.A. (a.k.a. Soho Mall Panama), provided that the transactions and other activities do not involve any orders for shipment of goods to the mall placed after May 5, 2016; and

(2) Payments by non-designated individuals or entities located in the designated Panamanian mall, Soho Panama, S.A., to or for the benefit of the entity Soho Panama, S.A., provided the payment is made into a blocked interest-bearing account in accordance with 31 CFR 598.206(a).

(b) This general license does not authorize:

(1) The unblocking of any accounts blocked pursuant to the Foreign Narcotics Kingpin Designation Act, 21 U.S.C. 1901-1908, and the Foreign Narcotics Kingpin Sanctions Regulations, 31 CFR part 598; or

(2) Any transactions or dealings otherwise prohibited by any Executive order or any other part of 31 CFR chapter V, or any transactions or dealings with any individual or entity that is listed on the Office of Foreign Assets Control's List of Specially Designated Nationals or Blocked Persons or that otherwise constitutes a person whose property and interests in property are blocked other than the limited transactions with the entity Soho Panama, S.A. that are authorized in paragraph (a)(2).

(c) U.S. persons participating in transactions authorized by this general license are required, within 10 business days after the activities conclude, to file a report on the transactions with the Office of Foreign Assets Control, Sanctions Compliance & Evaluation Division, U.S. Department of the Treasury, 1500 Pennsylvania Avenue NW, Freedman's Bank Building, Washington, DC 20220. Such reports shall include the following numbered sections and information:

(1) Estimated or actual dollar value of the transaction(s), as determined by the value of the goods, services, or contract;

(2) The parties involved;

(3) The type and scope of activities conducted; and

(4) The dates and duration of the activities.

Reports may also be filed via email to OFACReport@treasury.gov.

John E. Smith,

Acting Director, Office of Foreign Assets Control.

Dated: May 5, 2016.

OFFICE OF FOREIGN ASSETS CONTROL

Foreign Narcotics Kingpin Sanctions Regulations 31 CFR Part 598

GENERAL LICENSE NO. 4A

Authorizing Certain Transactions Involving Individuals or Entities Located in the Panamanian Mall and Associated Complex, Soho Panama, S.A. (a.k.a. Soho Mall Panama)

(a) General License No. 4, dated May 5, 2016, is replaced and superseded in its entirety by this General License No. 4A.

(b) Except as provided in paragraph (c), the following transactions and other activities otherwise prohibited by the Foreign Narcotics Kingpin Designation Act, 21 U.S.C. 1901-1908, and the Foreign Narcotics Kingpin Sanctions Regulations, 31 CFR part 598, that are (1) for the wind down of operations, contracts, or other agreements involving goods or services, (2) related to building maintenance, or (3) for the provision of financial services by, for, or on behalf of non-designated individuals or entities, are authorized through 12:01 a.m. eastern daylight time, July 6, 2016:

(1) All transactions and other activities involving non-designated individuals or entities located in the designated Panamanian mall and associated complex, Soho Panama, S.A. (a.k.a. Soho Mall Panama), provided that the transactions and other activities do not involve any orders for shipment of goods to the mall and associated complex placed after May 5, 2016; and

(2) Payments by non-designated individuals or entities located in the designated Panamanian mall and associated complex, Soho Panama, S.A., to or for the benefit of the entities Soho Panama, S.A. or Westline Enterprises, Inc., provided the payments are made into a blocked interest-bearing account in accordance with 31 CFR 598.206(a).

(c) This general license does not authorize:

(1) The unblocking of any accounts blocked pursuant to the Foreign Narcotics Kingpin Designation Act, 21 U.S.C. 1901-1908, and the Foreign Narcotics Kingpin Sanctions Regulations, 31 CFR part 598; or

(2) Any transactions or dealings otherwise prohibited by any Executive order or any other part of 31 CFR chapter V, or any transactions or dealings with any individual or entity that is listed on the Office of Foreign Assets Control's List of Specially Designated Nationals or Blocked Persons or that otherwise constitutes a person whose property and interests in property are blocked other than the limited transactions with the entities Soho Panama, S.A. or Westline Enterprises, Inc., that are authorized in paragraph (b)(2);

(d) U.S. persons participating in transactions authorized by this general license are required, within 10 business days after the activities conclude, to file a report on the transactions with the Office of Foreign Assets Control, Sanctions Compliance & Evaluation Division, U.S. Department of the Treasury, 1500 Pennsylvania Avenue NW, Freedman's Bank Building, Washington, DC 20220. Such reports shall include the following numbered sections and information:

(1) Estimated or actual dollar value of the transaction(s), as determined by the value of the goods, services, or contract;

(2) The parties involved;

(3) The type and scope of activities conducted; and

(4) The dates and duration of the activities.

Reports may also be filed via email to OFACReport@treasury.gov.

John E. Smith,

Acting Director, Office of Foreign Assets Control.

Dated: May 13, 2016.

OFFICE OF FOREIGN ASSETS CONTROL

Foreign Narcotics Kingpin Sanctions Regulations 31 CFR Part 598

GENERAL LICENSE NO. 4B

Authorizing Certain Transactions Involving Individuals or Entities Located in the Panamanian Mall and Associated Complex, Soho Panama, S.A. (a.k.a. Soho Mall Panama)

(a) General License No. 4A, dated May 13, 2016, is replaced and superseded in its entirety by this General License No. 4B.

(b) Except as provided in paragraph (c), the following transactions and other activities otherwise prohibited by the Foreign Narcotics Kingpin Designation Act, 21 U.S.C. 1901-1908, and the Foreign Narcotics Kingpin Sanctions Regulations, 31 CFR part 598, that are (i) for the wind down of operations, contracts, or other agreements involving goods or services, (ii) related to building maintenance, or (iii) for the provision of financial services by, for, or on behalf of non-designated individuals or entities, are authorized through 12:01 a.m. eastern daylight time, July 6, 2016:

(1) All transactions and other activities involving non-designated individuals or entities located in the designated Panamanian mall and associated complex, Soho Panama, S.A. (a.k.a. Soho Mall Panama), provided that the transactions and other activities do not involve any orders for shipment of goods to the mall placed after May 5, 2016; and

(2) Payments by non-designated individuals or entities located in the designated Panamanian mall and associated complex, Soho Panama, S.A., to or for the benefit of the entities Soho Panama, S.A. or Westline Enterprises, Inc., provided the payments are made into a blocked interest-bearing account in accordance with 31 CFR 598.206(a).

(c) This general license does not authorize:

(1) The unblocking of any accounts blocked pursuant to the Foreign Narcotics Kingpin Designation Act, 21 U.S.C. 1901-1908, and the Foreign Narcotics Kingpin Sanctions Regulations, 31 CFR part 598; or

(2) Any transactions or dealings otherwise prohibited by any Executive order or any other part of 31 CFR chapter V, or any transactions or dealings with any individual or entity that is listed on the Office of Foreign Assets Control's List of Specially Designated Nationals or Blocked Persons or that otherwise constitutes a person whose property and interests in property are blocked other than the limited transactions with the entities Soho Panama, S.A. or Westline Enterprises, Inc., that are authorized in paragraph (b)(2);

(d) U.S. persons participating in transactions authorized by or related to (b)(i) or (b)(ii) of this general license are required, within 10 business days after the activities conclude, to file a report on the transactions with the Office of Foreign Assets Control, Compliance Programs Division, U.S. Department of the Treasury, 1500 Pennsylvania Avenue NW, Freedman's Bank Building, Washington, DC 20220. Such reports shall include the following numbered sections and information:

(1) Estimated or actual dollar value of the transaction(s), as determined by the value of the goods, services, or contract;

(2) The parties involved;

(3) The type and scope of activities conducted; and

(4) The dates and duration of the activities.

Reports may also be filed via email to OFACReport@treasury.gov.

Gregory T. Gatjanis,

Acting Director, Office of Foreign Assets Control.

Dated: June 10, 2016.

OFFICE OF FOREIGN ASSETS CONTROL

Foreign Narcotics Kingpin Sanctions Regulations 31 CFR Part 598

GENERAL LICENSE NO. 4C

Authorizing Certain Transactions Involving Individuals or Entities Located in the Panamanian Mall and Associated Complex, Soho Panama, S.A. (a.k.a. Soho Mall Panama)

(a) General License No. 4B, dated June 10, 2016, is replaced and superseded in its entirety by this General License No. 4C.

(b) Except as provided in paragraph (c), the following transactions and other activities otherwise prohibited by the Foreign Narcotics Kingpin Designation Act, 21 U.S.C. 1901-1908, and the Foreign Narcotics Kingpin Sanctions Regulations, 31 CFR part 598, are authorized through 12:01 a.m. eastern daylight time, January 6, 2017:

(1) All transactions or other activities involving non-designated individuals or entities located in the designated Panamanian mall and associated complex, Soho Panama, S.A. (a.k.a. Soho Mall Panama), for the wind down of operations, contracts, or other agreements involving goods or services, provided that the transactions or other activities do not involve any orders for shipment of goods to the mall placed after May 5, 2016;

(2) All transactions or other activities related to building maintenance in the designated Panamanian mall and associated complex, Soho Panama, S.A., provided the transactions or other activities do not involve any Specially Designated Narcotics Trafficker (SDNT) other than Soho Panama S.A., Westline Enterprises, Inc., or SDNTs located in the mall;

(3) All transactions or other activities related to the provision of financial services by, for, or on behalf of non-designated financial institutions that were physically located at the designated mall and associated complex, Soho Panama, S.A., prior to May 5, 2016, including financial services for non-designated entities located in the designated mall and associated complex, provided that the transactions or other activities do not otherwise involve financial services for any SDNT; and

(4) Payments by non-designated individuals or entities located in the designated Panamanian mall and associated complex, Soho Panama, S.A., and payments by persons providing maintenance under (b)(2) to or for the benefit of the entities Soho Panama, S.A. or Westline Enterprises, Inc., provided the payments are made into a blocked interest-bearing account in accordance with 31 CFR 598.206(a).

(c) This general license does not authorize:

(1) The unblocking of any accounts blocked pursuant to the Foreign Narcotics Kingpin Designation Act, 21 U.S.C. 1901-1908, and the Foreign Narcotics Kingpin Sanctions Regulations, 31 CFR part 598; or

(2) Any transactions or dealings otherwise prohibited by any Executive order or any other part of 31 CFR chapter V, or any transactions or dealings with any individual or entity, including any property or interest in property of such individual or entity, that is listed on the Office of Foreign Assets Control's List of Specially Designated Nationals or Blocked Persons or that otherwise constitutes a person whose property and interests in property are blocked, other than the limited transactions with the entities Soho Panama, S.A., Westline Enterprises, Inc., or other SDNTs located in the designated Panamanian mall and associated complex, Soho Panama, S.A., that are authorized in paragraphs (b)(l), (b)(2), and (b)(3).

(d) U.S. persons participating in transactions authorized by or related to paragraph (b)(1) or (b)(2) of this general license are required, within 10 business days after the activities conclude, to file a report on the transactions with the Office of Foreign Assets Control, Compliance Programs Division, U.S. Department of the Treasury, 1500 Pennsylvania Avenue NW, Freedman's Bank Building, Washington, DC 20220. Such reports shall include the following numbered sections and information:

(1) Estimated or actual dollar value of the transaction(s), as determined by the value of the goods, services, or contract;

(2) The parties involved;

(3) The type and scope of activities conducted; and

(4) The dates and duration of the activities.

Reports may also be filed via email to OFACReport@treasury.gov.

John E. Smith,

Acting Director, Office of Foreign Assets Control.

Dated: July 1, 2016.

OFFICE OF FOREIGN ASSETS CONTROL

Foreign Narcotics Kingpin Sanctions Regulations 31 CFR Part 598

GENERAL LICENSE NO. 4D

Authorizing Certain Transactions Involving the Panamanian Mall and Associated Complex, Soho Panama, S.A. (a.k.a. Soho Mall Panama)

(a) General License No. 4C, dated July 1, 2016, is replaced and superseded in its entirety by this General License No. 4D.

(b) Except as provided in paragraph (c), the following transactions and activities otherwise prohibited by the Foreign Narcotics Kingpin Designation Act, 21 U.S.C. 1901-1908, and the Foreign Narcotics Kingpin Sanctions Regulations, 31 CFR part 598, are authorized through 12:01 a.m. eastern daylight time, January 6, 2017:

(1) All transactions or activities involving non-designated individuals or entities located in the designated Panamanian mall and associated complex, Soho Panama, S.A. (a.k.a. Soho Mall Panama) (hereinafter Soho Mall Panama), for the wind down of operations, contracts, or other agreements involving goods or services, provided that the transactions or activities do not involve any shipment of goods to the mall after May 5, 2016;

(2) All transactions or activities related to building management or maintenance in Soho Mall Panama, provided the transactions or activities do not involve any Specially Designated Nationals (SDN) other than Soho Mall Panama, Westline Enterprises, Inc., or SDNs located in the mall;

(3) All transactions or activities related to the provision of financial services by, for, or on behalf of non-designated financial institutions that were physically located at Soho Mall Panama prior to May 5, 2016, including financial services for non-designated entities located in Soho Mall Panama, provided that the transactions or activities do not otherwise involve financial services for any SDN;

(4) Payments by non-designated individuals or entities located in Soho Mall Panama, and payments by persons providing management or maintenance services under (b)(2) to or for the benefit of the entities Soho Mall Panama or Westline Enterprises, Inc., provided the payments are made into a blocked interest-bearing account in accordance with 31 CFR 598.206(a); and

(5) All transactions and activities that are necessary to facilitate, negotiate, or agree to the sale, disposition, or transfer of Soho Mall Panama or Westline Enterprises, Inc., provided the transactions or activities do not otherwise involve any SDN.

(c) This general license does not authorize:

(1) The unblocking of any accounts blocked pursuant to the Foreign Narcotics Kingpin Designation Act, 21 U.S.C. 1901-1908, and the Foreign Narcotics Kingpin Sanctions Regulations, 31 CFR part 598;

(2) Any transactions or activities to finalize, close, or exchange assets or any other thing of value related to the sale, disposition, or transfer of Soho Mall Panama or Westline Enterprises, Inc.; or

Note to paragraph (c)(2): In the event a transaction or activity to finalize, close, or exchange assets or any other thing of value related to the sale, disposition, or transfer of Soho Mall Panama or Westline Enterprises, Inc. involves a U.S. person or is otherwise subject to U.S. jurisdiction, a separate license from the Office of Foreign Assets Control is required.

(3) Any transactions or dealings otherwise prohibited by any Executive order or any other part of 31 CFR chapter V, or with any individual or entity, including any property or interest in property of such individual or entity, that is listed on the Office of Foreign Assets Control's List of Specially Designated Nationals or Blocked Persons or that otherwise constitutes a person whose property and interests in property are blocked other than the limited transactions with the entities Soho Mall Panama, Westline Enterprises, Inc., or other SDNs located in Soho Mall Panama, that are authorized in paragraphs (b)(l)-(b)(5).

(d) U.S. persons participating in transactions authorized by or related to paragraphs (b)(1), (b)(2), or (b)(5) of this general license are required, within 10 business days after the activities conclude, to file a report on the transactions with the Office of Foreign Assets Control, Sanctions Compliance & Evaluation Division, U.S. Department of the Treasury, 1500 Pennsylvania Avenue NW, Freedman's Bank Building, Washington, DC 20220. Such reports shall include the following numbered sections and information:

(1) Estimated or actual dollar value of the transaction(s), as determined by the value of the goods, services, or contract;

(2) The parties involved;

(3) The type and scope of activities conducted; and

(4) The dates and duration of the activities.

Reports may also be filed via email to OFACReport@treasury.gov.

John E. Smith,

Acting Director, Office of Foreign Assets Control.

Dated: August 19, 2016.

OFFICE OF FOREIGN ASSETS CONTROL

Foreign Narcotics Kingpin Sanctions Regulations 31 CFR Part 598

GENERAL LICENSE NO. 4E

Authorizing Certain Transactions Involving the Panamanian Mall and Associated Complex, Soho Panama, S.A. (a.k.a. Soho Mall Panama)

(a) General License No. 4D, dated August 19, 2016, is replaced and superseded in its entirety by this General License No. 4E.

(b) Except as provided in paragraph (c), the following transactions and activities otherwise prohibited by the Foreign Narcotics Kingpin Designation Act, 21 U.S.C. 1901-1908, and the Foreign Narcotics Kingpin Sanctions Regulations, 31 CFR part 598, are authorized through 12:01 a.m. eastern daylight time, March 10, 2017:

(1) All transactions or activities involving non-designated individuals or entities located in the designated Panamanian mall and associated complex, Soho Panama, S.A. (a.k.a. Soho Mall Panama) (hereinafter Soho Mall Panama), for the wind down of operations, contracts, or other agreements involving goods or services, provided that the transactions or activities do not involve any shipment of goods to the mall after May 5, 2016;

(2) All transactions or activities related to building management or maintenance in Soho Mall Panama, provided the transactions or activities do not involve any Specially Designated Nationals (SDN) other than Soho Mall Panama, Westline Enterprises, Inc., or SDNs located in the mall;

(3) All transactions or activities related to the provision of financial services by, for, or on behalf of non-designated financial institutions that were physically located at Soho Mall Panama prior to May 5, 2016, including financial services for non-designated entities located in Soho Mall Panama, provided that the transactions or activities do not otherwise involve financial services for any SDN;

(4) Payments by non-designated individuals or entities located in Soho Mall Panama, and payments by persons providing management or maintenance services under (b)(2) to or for the benefit of the entities Soho Mall Panama or Westline Enterprises, Inc., provided the payments are made into a blocked interest-bearing account in accordance with 31 CFR 598.206(a); and

(5) All transactions and activities that are necessary to facilitate, negotiate, or agree to the sale, disposition, or transfer of Soho Mall Panama or Westline Enterprises, Inc., provided the transactions or activities do not otherwise involve any SDN.

Note to paragraph (b)(5): In the event a transaction or activity to facilitate, negotiate, or agree to the sale, disposition, or transfer of Soho Mall Panama or Westline Enterprises, Inc. involves a U.S. person or is otherwise subject to U.S. jurisdiction, and involves any SDN other than Soho Mall Panama or Westline Enterprises, Inc., a separate license from the Office of Foreign Assets Control is required.

(c) This general license does not authorize:

(1) The unblocking of any accounts blocked pursuant to the Foreign Narcotics Kingpin Designation Act, 21 U.S.C. 1901-1908, and the Foreign Narcotics Kingpin Sanctions Regulations, 31 CFR part 598;

(2) Any transactions or activities to finalize, close, or exchange assets or any other thing of value related to the sale, disposition, or transfer of Soho Mall Panama or Westline Enterprises, Inc.; or

Note to paragraph (c)(2): In the event a transaction or activity to finalize, close, or exchange assets or any other thing of value related to the sale, disposition, or transfer of Soho Mall Panama or Westline Enterprises, Inc. involves a U.S. person or is otherwise subject to U.S. jurisdiction, a separate license from the Office of Foreign Assets Control is required.

(3) Any transactions or dealings otherwise prohibited by any Executive order or any other part of 31 CFR chapter V, or with any individual or entity, including any property or interest in property of such individual or entity, that is listed on the Office of Foreign Assets Control's List of Specially Designated Nationals or Blocked Persons or that otherwise constitutes a person whose property and interests in property are blocked other than the limited transactions with the entities Soho Mall Panama, Westline Enterprises, Inc., or other SDNs located in Soho Mall Panama, that are authorized in paragraphs (b)(l)-(b)(5).

(d) U.S. persons participating in transactions authorized by or related to paragraphs (b)(l), (b)(2), or (b)(5) of this general license are required, within 10 business days after the activities conclude, to file a report on the transactions with the Office of Foreign Assets Control, Sanctions Compliance & Evaluation Division, U.S. Department of the Treasury, 1500 Pennsylvania Avenue NW, Freedman's Bank Building, Washington, DC 20220. Such reports shall include the following numbered sections and information:

(1) Estimated or actual dollar value of the transaction(s), as determined by the value of the goods, services, or contract;

(2) The parties involved;

(3) The type and scope of activities conducted; and

(4) The dates and duration of the activities.

Reports may also be filed via email to OFACReport@treasury.gov.

John E. Smith,

Acting Director, Office of Foreign Assets Control.

Dated: January 5, 2017.

OFFICE OF FOREIGN ASSETS CONTROL

Foreign Narcotics Kingpin Sanctions Regulations 31 CFR Part 598

GENERAL LICENSE NO. 4F

Authorizing Certain Transactions Involving the Panamanian Mall and Associated Complex, Soho Panama, S.A. (a.k.a. Soho Mall Panama)

(a) General License No. 4E, dated January 5, 2017, is replaced and superseded in its entirety by this General License No. 4F.

(b) Except as provided in paragraph (c), the following transactions and activities otherwise prohibited by the Foreign Narcotics Kingpin Designation Act, 21 U.S.C. 1901-1908, and the Foreign Narcotics Kingpin Sanctions Regulations, 31 CFR part 598, are authorized through 12:01 a.m. eastern daylight time, April 28, 2017:

(1) All transactions or activities involving non-designated individuals or entities located in the designated Panamanian mall and associated complex, Soho Panama, S.A. (a.k.a. Soho Mall Panama) (hereinafter Soho Mall Panama), for the wind down of operations, contracts, or other agreements involving goods or services, provided that the transactions or activities do not involve any shipment of goods to the mall after May 5, 2016;

(2) All transactions or activities related to building management or maintenance in Soho Mall Panama, provided the transactions or activities do not involve any Specially Designated Nationals (SDN) other than Soho Mall Panama, Westline Enterprises, Inc., or SDNs located in the mall;

(3) All transactions or activities related to the provision of financial services by, for, or on behalf of non-designated financial institutions that were physically located at Soho Mall Panama prior to May 5, 2016, including financial services for non-designated entities located in Soho Mall Panama, provided that the transactions or activities do not otherwise involve financial services for any SDN;

(4) Payments by non-designated individuals or entities located in Soho Mall Panama, and payments by persons providing management or maintenance services under (b)(2) to or for the benefit of the entities Soho Mall Panama or Westline Enterprises, Inc., provided the payments are made into a blocked interest-bearing account in accordance with 31 CFR 598.206(a); and

(5) All transactions and activities that are necessary to facilitate, negotiate, or agree to the sale, disposition, or transfer of Soho Mall Panama or Westline Enterprises, Inc., provided the transactions or activities do not otherwise involve any SDN.

Note to paragraph (b)(5): In the event a transaction or activity to facilitate, negotiate, or agree to the sale, disposition, or transfer of Soho Mall Panama or Westline Enterprises, Inc. involves a U.S. person or is otherwise subject to U.S. jurisdiction, and involves any SDN other than Soho Mall Panama or Westline Enterprises, Inc., a separate license from the Office of Foreign Assets Control is required.

(c) This general license does not authorize:

(1) The unblocking of any accounts blocked pursuant to the Foreign Narcotics Kingpin Designation Act, 21 U.S.C. 1901-1908, and the Foreign Narcotics Kingpin Sanctions Regulations, 31 CFR part 598;

(2) Any transactions or activities to finalize, close, or exchange assets or any other thing of value related to the sale, disposition, or transfer of Soho Mall Panama or Westline Enterprises, Inc.; or

Note to paragraph (c)(2): In the event a transaction or activity to finalize, close, or exchange assets or any other thing of value related to the sale, disposition, or transfer of Soho Mall Panama or Westline Enterprises, Inc. involves a U.S. person or is otherwise subject to U.S. jurisdiction, a separate license from the Office of Foreign Assets Control is required.

(3) Any transactions or dealings otherwise prohibited by any Executive order or any other part of 31 CFR chapter V, or with any individual or entity, including any property or interest in property of such individual or entity, that is listed on the Office of Foreign Assets Control's List of Specially Designated Nationals or Blocked Persons or that otherwise constitutes a person whose property and interests in property are blocked other than the limited transactions with the entities Soho Mall Panama, Westline Enterprises, Inc., or other SDNs located in Soho Mall Panama, that are authorized in paragraphs (b)(l)-(b)(5).

(d) U.S. persons participating in transactions authorized by or related to paragraphs (b)(l), (b)(2), or (b)(5) of this general license are required, within 10 business days after the activities conclude, to file a report on the transactions with the Office of Foreign Assets Control, Sanctions Compliance & Evaluation Division, U.S. Department of the Treasury, 1500 Pennsylvania Avenue NW, Freedman's Bank Building, Washington, DC 20220. Such reports shall include the following numbered sections and information:

(1) Estimated or actual dollar value of the transaction(s), as determined by the value of the goods, services, or contract;

(2) The parties involved;

(3) The type and scope of activities conducted; and

(4) The dates and duration of the activities.

Reports may also be filed via email to OFACReport@treasury.gov.

Andrea Gacki,

Acting Director, Office of Foreign Assets Control.

Dated: March 9, 2017.

OFFICE OF FOREIGN ASSETS CONTROL

Foreign Narcotics Kingpin Sanctions Regulations 31 CFR Part 598

GENERAL LICENSE NO. 4G

Authorizing Certain Transactions Involving the Panamanian Mall and Associated Complex, Soho Panama, S.A. (a.k.a. Soho Mall Panama)

(a) General License No. 4F, dated March 9, 2017, is replaced and superseded in its entirety by this General License No. 4G.

(b) Except as provided in paragraph (c), the following transactions and activities otherwise prohibited by the Foreign Narcotics Kingpin Designation Act, 21 U.S.C. 1901-1908, and the Foreign Narcotics Kingpin Sanctions Regulations, 31 CFR part 598, are authorized through 12:01 a.m. eastern daylight time, June 15, 2017:

(1) All transactions or activities involving non-designated individuals or entities located in the designated Panamanian mall and associated complex, Soho Panama, S.A. (a.k.a. Soho Mall Panama) (hereinafter Soho Mall Panama), for the wind down of operations, contracts, or other agreements involving goods or services, provided that the transactions or activities do not involve any shipment of goods to the mall after May 5, 2016;

(2) All transactions or activities related to building management or maintenance in Soho Mall Panama, provided the transactions or activities do not involve any Specially Designated Nationals (SDN) other than Soho Mall Panama, Westline Enterprises, Inc., or SDNs located in the mall;

(3) All transactions or activities related to the provision of financial services by, for, or on behalf of non-designated financial institutions that were physically located at Soho Mall Panama prior to May 5, 2016, including financial services for non-designated entities located in Soho Mall Panama, provided that the transactions or activities do not otherwise involve financial services for any SDN;

(4) Payments by non-designated individuals or entities located in Soho Mall Panama, and payments by persons providing management or maintenance services under (b)(2) to or for the benefit of the entities Soho Mall Panama or Westline Enterprises, Inc., provided the payments are made into a blocked interest-bearing account in accordance with 31 CFR 598.206(a); and

(5) All transactions and activities that are necessary to facilitate, negotiate, or agree to the sale, disposition, or transfer of Soho Mall Panama or Westline Enterprises, Inc., provided the transactions or activities do not otherwise involve any SDN.

Note to paragraph (b)(5): In the event a transaction or activity to facilitate, negotiate, or agree to the sale, disposition, or transfer of Soho Mall Panama or Westline Enterprises, Inc. involves a U.S. person or is otherwise subject to U.S. jurisdiction, and involves any SDN other than Soho Mall Panama or Westline Enterprises, Inc., a separate license from the Office of Foreign Assets Control is required.

(c) This general license does not authorize:

(1) The unblocking of any accounts blocked pursuant to the Foreign Narcotics Kingpin Designation Act, 21 U.S.C. 1901-1908, and the Foreign Narcotics Kingpin Sanctions Regulations, 31 CFR part 598;

(2) Any transactions or activities to finalize, close, or exchange assets or any other thing of value related to the sale, disposition, or transfer of Soho Mall Panama or Westline Enterprises, Inc.; or

Note to paragraph (c)(2): In the event a transaction or activity to finalize, close, or exchange assets or any other thing of value related to the sale, disposition, or transfer of Soho Mall Panama or Westline Enterprises, Inc. involves a U.S. person or is otherwise subject to U.S. jurisdiction, a separate license from the Office of Foreign Assets Control is required.

(3) Any transactions or dealings otherwise prohibited by any Executive order or any other part of 31 CFR chapter V, or with any individual or entity, including any property or interest in property of such individual or entity, that is listed on the Office of Foreign Assets Control's List of Specially Designated Nationals or Blocked Persons or that otherwise constitutes a person whose property and interests in property are blocked other than the limited transactions with the entities Soho Mall Panama, Westline Enterprises, Inc., or other SDNs located in Soho Mall Panama, that are authorized in paragraphs (b)(l)-(b)(5).

(d) U.S. persons participating in transactions authorized by or related to paragraphs (b)(l), (b)(2), or (b)(5) of this general license are required, within 10 business days after the activities conclude, to file a report on the transactions with the Office of Foreign Assets Control, Sanctions Compliance & Evaluation Division, U.S. Department of the Treasury, 1500 Pennsylvania Avenue NW, Freedman's Bank Building, Washington, DC 20220. Such reports shall include the following numbered sections and information:

(1) Estimated or actual dollar value of the transaction(s), as determined by the value of the goods, services, or contract;

(2) The parties involved;

(3) The type and scope of activities conducted; and

(4) The dates and duration of the activities.

Reports may also be filed via email to OFACReport@treasury.gov.

Andrea Gacki,

Acting Director, Office of Foreign Assets Control.

Dated: April 27, 2017.

Andrea M. Gacki,
Director, Office of Foreign Assets Control.

[FR Doc. 2022-26200 Filed 11-30-22; 8:45 am]

BILLING CODE 4810-AL-P